DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its fifty-sixth meeting.

Name: National Advisory Committee on Rural Health and Human Services.

Dates and Times: June 10, 2007, 1 p.m.-5:45 p.m., June 11, 2007, 8:45 a.m.-5 p.m., June 12, 2007, 8:50 a.m.-10:45 a.m.

Place: Fort Collins Hilton, 425 Prospect Road, Fort Collins, CO 80526, Phone: 970-482-2626.

Status: The meeting will be open to the public.

Purpose: The National Advisory Committee on Rural Health and Human Services provides advice and recommendations to the Secretary with respect to the delivery, research, development and administration of health and human services in rural areas.

Agenda: Sunday afternoon, June 10, at 1 p.m., the meeting will be called to order by the Chairperson of the Committee, the Honorable David Beasley. Jim Wescott, Senior Demographer with Colorado State will be give an overview of Rural Colorado. Following this presentation will be two panels on health and human services issues. The first will be an health panel. The speakers will be Mark Wallace, President of Northern Colorado Health Alliance, and Dr. Jack Westfall, Associate Dean for Rural Health at the Colorado University School of Medicine. The second will be a human services panel. The speakers will be Patricia Brewster-Willeke, a Public Health Nurse, and Kindra Mulch, Administrator of Kit Carson County Health and Human Services. Following the panel discussions will be an overview of Monday's site visits by Lou Ann Wilroy with the Colorado State Office of Rural Health. The Sunday meeting will close at 5:45 p.m.

Monday morning, June 11, at 8:30 a.m., the Committee will break into Subcommittee format for the site visits. At 8:45 a.m., both Subcommittees will depart for site visits. The Health Subcommittee will depart to East Morgan County Hospital in Brush, Colorado. The Human Services Subcommittee will depart to the Area Agency on Aging in Fort Morgan, Colorado. Transportation to these sites will not be provided. Both Subcommittees will return to Fort Collins Hilton and resume meeting in Subcommittee format at 4 p.m. The Monday meeting will close at 5 p.m.

The final session will be convened Tuesday morning, June 12, at 8:50 a.m. A Committee member, Mayor Larry Otis, will present a case study titled Employee Health Care in Rural Mississippi. Following this presentation will be a review of the site visits, discussion on the letter to the Secretary, and discussion of the upcoming September meeting. The meeting will be adjourned at 10:45 a.m.

For Further Information Contact: Anyone requiring information regarding the Committee should contact Tom Morris, M.P.A., Executive Secretary, National Advisory Committee on Rural Health and Human Services, Health Resources and Services Administration, Parklawn Building, Room 9A-55, 5600 Fishers Lane, Rockville, MD 20857, Telephone (301) 443-0835, Fax (301) 443-2803.

Persons interested in attending any portion of the meeting should contact Michele Pray-Gibson, Office of Rural Health Policy (ORHP), Telephone (301) 443-0835. The Committee meeting agenda will be posted on ORHP's Web site http://www.ruralhealth.hrsa.gov.

Due to scheduling difficulties, this notice will publish in the Federal Register less than 15 days before the date of the meeting.

Dated: May 24, 2007.
Caroline Lewis,
Associate Administrator for Management.

[FR Doc. 07-2683 Filed 5-25-07; 10:55 am]

BILLING CODE 4165-15-P